DEPARTMENT OF TRANSPORTATION

Office of the Secretary

Aviation Proceedings, Agreements Filed the Week Ending April 8, 2005

The following Agreements were filed with the Department of Transportation under the provisions of 49 U.S.C. 412 and 414. Answers may be filed within 21 days after the filing of the application.

Docket Number: OST-2005-20893.

Date Filed: April 4, 2005.

Parties: Members of the International Air Transport Association.

Subject:

PTC2 AFR 0157 dated 8 March 2005, TC2 Within Africa Resolutions r1-r23.

Minutes: PTC2 AFR 0158 dated 4 April 2005.

Tables: PTC2 AFR Fares 0055 dated 18 March 2005.

Intended effective date: 1 May 2005.

Docket Number: OST-2005-20950.

Date Filed: April 8, 2005.

Parties: Members of the International Air Transport Association.

Subject:

PTC12 NMS-AFR 0215 dated 11 March 2005, TC12 North Atlantic-Africa (except USA-Reunion) Resolutions.

PTC12 NMS-AFR 0218 dated 18 March 2005, TC12 North Atlantic-Africa (except USA-Reunion) Resolutions—Technical Correction.

PTC12 NMS-AFR 0219 dated 26 March 2005, TC12 North Atlantic-Africa (except USA-Reunion) Resolutions.

PTC12 NMS-AFR 0216 dated 11 March 2005, TC12 North Atlantic USA-Reunion Resolutions.

PTC12 NMS-AFR 0217 dated 11 March 2005, TC12 Mid Atlantic-Africa Resolutions r1-r33.

Minutes: PTC12 NMS-AFR 0220 dated 8 April 2005.

Tables: PTC12 NMS-AFR Fares 0105 dated 18 March 2005, TC12 North Atlantic-Africa Specified Fares Tables.

PTC12 NMS-AFR Fares 0104 dated 18 March 2005, TC12 Mid Atlantic-Africa Specified Fares Tables.

Intended effective date: 1 May 2005.

Renee V. Wright,
Acting Program Manager, Docket Operations, Alternate Federal Register Liaison.

[FR Doc. 05-8086 Filed 4-21-05; 8:45 am]

BILLING CODE 4910-62-P